DEPARTMENT OF THE INTERIOR

National Park Service

[N6922; NPS-WASO-NAGPRA-NPS0041995; PPWOCRADN0-PCU00RP14.R50000]

Notice of Intended Repatriation: University of Denver Museum of Anthropology, Denver, CO

AGENCY: National Park Service, Interior.

ACTION: Notice.

SUMMARY: In accordance with the Native American Graves Protection and Repatriation Act (NAGPRA), the University of Denver Museum of Anthropology (DUMA) intends to repatriate certain cultural items that meet the definition of unassociated funerary objects, sacred objects, and/or objects of cultural patrimony and that have a cultural affiliation with the Indian Tribes or Native Hawaiian organizations in this notice.

DATES: Repatriation of the cultural items in this notice may occur on or after March 13, 2026.

ADDRESSES: Send additional, written requests for repatriation of the cultural items in this notice to Dena Sedar, University of Denver Museum of Anthropology, 2000 E Asbury Avenue, Sturm Hall 146, Denver, CO 80210, email dena.sedar@du.edu.

SUPPLEMENTARY INFORMATION: This notice is published as part of the National Park Service's administrative responsibilities under NAGPRA. The determinations in this notice are the sole responsibility of the DUMA, and additional information on the determinations in this notice, including the results of consultation, can be found in the summary or related records. The National Park Service is not responsible for the determinations in this notice.

Abstract of Information Available

A total of 12 cultural items have been requested for repatriation.

The eight sacred objects were acquired in southern Arizona by Father James O'Brien and Colleen Anderson in the second half of the 20th century. Their collection was bequeathed to Lon D. Anderson, who donated the cultural items to DUMA in 2019. The eight sacred objects are four basketry trays (DU ID #2019.6.13, 2019.6.15, 2019.6.16, 2019.6.17), three basketry bowls (DU ID #2019.6.18, 2019.6.20, 2019.6.21), and one bolo tie (DU ID #2019.6.56).

The four objects of cultural patrimony are one ceramic bowl, two ceramic jars, and one shell gaming piece. The ceramic bowl (DU ID#2017.1.21) was collected by Allene and Charles Mueldener in the 20th century and bequeathed to William Mueldener, who donated the cultural item to DUMA in 2017. The two ceramic jars (DU ID #2019.6.44 and 2019.6.46) were acquired in southern Arizona by Father James O'Brien and Colleen Anderson in the second half of the 20th century. Their collection was bequeathed to Lon D. Anderson, who donated the cultural items to DUMA in 2019. The one shell gaming piece (DU ID#3917B) came into the possession of Fallis F. Rees at an unknown date from an unknown location. In 1967, Mr. Rees donated this cultural item to DUMA.

Determinations

The DUMA has determined that:

• The eight sacred objects described in this notice are specific ceremonial objects needed by a traditional Native American religious leader for present-day adherents to practice traditional Native American religion, according to the Native American traditional knowledge of a lineal descendant, Indian Tribe, or Native Hawaiian organization.

• The four objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Gila River Indian Community of the Gila River Indian Reservation, Arizona.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 13, 2026. If competing requests for repatriation are received, the DUMA must determine the most appropriate requestor prior to repatriation. Requests for joint repatriation of the cultural items are considered a single request and not competing requests. The DUMA is responsible for sending a copy of this notice to the Indian Tribes and Native Hawaiian organizations identified in this notice and to any other consulting parties.

Authority: Native American Graves Protection and Repatriation Act, 25 U.S.C. 3004 and the implementing regulations, 43 CFR 10.9.

Dated: February 4, 2026.
Melanie O'Brien,
Manager, National NAGPRA Program.

[FR Doc. 2026-02699 Filed 2-10-26; 8:45 am]

BILLING CODE 4312-52-P